DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Practitioner Services Network Initiative—New—SAMHSA's Center for Substance Abuse Treatment (CSAT), plans to obtain information about the providers, care and characteristics of clients with substance abuse disorders and related co-morbidities that receive treatment from practitioners in private practice and organizational settings. This information is needed to complement available information about the substance abuse treatment provided in institutional and publicly funded settings, in order to more completely describe the full range and nature of substance abuse problems affecting the nation.

The CSAT Practitioner Services Network initiative provides support to six of the largest behavioral health associations in the nation to design and implement surveys using representative samples of their members and the clients they serve. The membership of the selected Associations collectively represent a significant proportion of the behavioral health professionals in the country. Two of these associations, the American Psychiatric Association and the American Psychological Association, have separately functioning internet-based PSN infrastructures; from these two groups CSAT will be able to purchase reports based on the data they have already collected.

For four other associations (i.e., the American Association for Marriage and Family Therapy; the American Counseling Association; NAADAC, The Association for Addiction Professionals; and the National Association of Social Workers), CSAT will sponsor new data collection efforts to provide a core set of data elements to be collected in their upcoming membership surveys. The four Associations conduct periodic sample surveys of their memberships through their individual Practitioner Services Network infrastructures and will incorporate a common set of specific substance-abuse questions that are of importance to CSAT into these studies. CSAT will sponsor data collection and purchase, from each Association, a report that addresses the characteristics of practitioners who may be expected to encounter clients with substance abuse disorders, the characteristics of clients with behavioral and/or substance abuse disorders, and the nature of services rendered to these clients.

The reports to be purchased by CSAT will be based on the Associations' surveys of a representative sample of 400 of their members. Practitioners in the sample will abstract demographic and encounter-specific data from two of their current patients' records. No client identifying information will be collected as part of this study. Data collection methods will include mailed surveys with mailed reminders and follow-up phone calls in order to achieve a target response rate of 80 percent.

This information will complement CSAT's and SAMHSA's existing data collection efforts and provide a more comprehensive view of the populations in need of services, the prevalence of substance abuse and mental health co-morbidities, and the qualifications and training of private practitioners who serve these clients.

The burden estimates are summarized in the following table.

Estimated number of respondents | Responses per respondent | Estimated completion time (hours) | Total burden hours
1,600 | 1 | .33 | 532

Send comments to Nancy Pearce, SAMHSA Reports Clearance Officer, Room 16-105, Parklawn Building, 5600 Fishers Lane, Rockville, MD 20857. Written comments should be received within 60 days of this notice.

Dated: April 1, 2003.
Richard Kopanda,
Executive Officer, Substance Abuse and Mental Health Services Administration.

[FR Doc. 03-8323 Filed 4-4-03; 8:45 am]

BILLING CODE 4162-20-P